FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than February 23, 2007.

A. Federal Reserve Bank of Richmond (A. Linwood Gill, III, Vice President) 701 East Byrd Street, Richmond, Virginia 23261-4528:

1. BB&T Corporation Winston-Salem, North Carolina; to acquire 100 percent of the voting securities of Coastal Financial Corporation, Myrtle Beach, South Carolina, and thereby indirectly acquire Coastal Federal Bank, Myrtle Beach, South Carolina, and engage in operating a savings association, pursuant to section 225.28(b)(4)(ii) of Regulation Y; Coastal Planners Holding Corporation, Myrtle Beach, South Carolina, and thereby indirectly acquire Coastal Retirement, Estate & Tax Planners, Inc., Myrtle Beach, South Carolina, and engage in financial planning and tax preparation activities, pursuant to section 225.28 (b)(6)(vi) of Regulation Y; and Coastal Federal Holding Corporation, Wilmington, Delaware, and thereby indirectly acquire Coastal Real Estate Investment Corporation, Sunset Beach, North Carolina, and engage in acquiring and servicing loan activities, pursuant to section 225.28 (b)(1)of Regulation Y.

Board of Governors of the Federal Reserve System, January 24, 2007.
Jennifer J. Johnson,
Secretary of the Board.

[FR Doc.E7-1331 Filed 1-26-07; 8:45 am]

BILLING CODE 6210-01-S